DEPARTMENT OF TRANSPORTATION

Federal Aviation Administration

Public Notice for Waiver of Aeronautical Land-Use Assurance; Willoughby Lost Nation Municipal Airport, Willoughby, OH

AGENCY: Federal Aviation Administration, DOT.

ACTION: Notice of intent of waiver with respect to land.

SUMMARY: The Federal Aviation Administration (FAA) is considering a proposal to change a portion of airport land from aeronautical use to non-aeronautical use and to authorize the lease of the airport property. The proposal consists of one parcel of land totaling approximately 12.903 acres for an outdoor soccer facility. Current use and present condition is vacant grassland. There are no impacts to the airport by allowing the airport to dispose of the property. The land was acquired under FAA Project Nos.: AIP-3-39-0090-0185 and AIP-3-39-0090-0589. Approval does not constitute a commitment by the FAA to financially assist in the lease of the subject airport property nor a determination that all measures covered by the program are eligible for Airport Improvement Program funding from the FAA. The disposition of proceeds from the lease of the airport property will be in accordance with the FAA's Policy and Procedures Concerning the Use of Airport Revenue, published in the Federal Register on February 16, 1999. Together this proposal is for approximately 12.903 acres in total.

In accordance with section 47107(h) of title 49, United States Code, this notice is required to be published in the Federal Register 30 days before modifying the land-use assurance that requires the property to be used for an aeronautical purpose. The proposed land will be used for the development of soccer-specific facilities, which have proven to enhance the economy for many Ohio communities in recent years. With over 55,000 registered players in Ohio-North alone, the opportunity to bring major and minor events into the Willoughby area would be significant. This development will also aide in increasing the positive tax revenue stream to the City, and add to the vitality of the existing sports complex during the spring, summer & fall months.

The proceeds from the lease of the land will be used for airport improvements and operation expenses at Willoughby Lost Nation Municipal Airport.

DATES: Comments must be received on or before February 15, 2001.

FOR FURTHER INFORMATION CONTACT: Ms. Stephanie R. Swann, Federal Aviation Administration, Great Lakes Region, Detroit Airports District Office, DET ADO-670.5, Willow Run Airport, East, 8820 Beck Road, Belleville, Michigan 48111, (734) 487-7277. Documents reflecting this FAA action may be reviewed at this same location or at Willoughby Lost Nation Municipal Airport, Willoughby, Ohio.

SUPPLEMENTARY INFORMATION: Following are legal descriptions of the property:

Legal Description of a 12.903 Acre Parcel Being Part of Land of the City of Willoughby Who Claims Title Through Instrument Recorded in Volume 212, Page 908 of the Lake County Records

Situated in the City of Willoughby, County of Lake and State of Ohio and known as being part of Original Lot No. 6, Douglas Tract as is further bounded and described as follows:

Beginning at a monument in the center of the cul-de-sac of Jet Center Place, as recorded in Volume 16, Page 34 of the Lake County Map Records.

Thence North 14′02′00″ East 68.50 feet to an iron pin found in the westerly line of a6.8187 acre parcel of land of the City of Willoughby recorded in Vol. 680, Page 252 of Lake County Official Records;

Thence North 1′14′52″ East, along said line, 82.96 feet to an iron pin found at the northwesterly corner of said land and being the principal place of beginning;

Course 1: Thence North 1′44′30″ East, along a line, 903.33 feet to an iron pin found at the southerly line of land conveyed to Lost Nation Parkway Ltd. by Document No. 980042081 of the Lake County Records;

Course II: Thence South 88′15′30″ East, along said southerly line and its prolongation easterly, 623.50 feet to an iron pin set;

Course III: Thence South 1′44′30″ West 899.57 feet to an iron pin found at the northeasterly corner of said land of the City of Willoughby;

Course IV: Thence North 88′36′14″ West, along said land, 623.51 feet to the principal place of beginning and containing 12.903 acres of land according to a survey made in May, 2000 by Richard J. Bilski, Ohio Professional Surveyor No. 5244 of CT Consultants, Inc., 35000 Kaiser Court, Willoughby, Ohio 44094;

The bearing stated herein are based upon the recorded centerline of Jet Center Place. All the iron pins, either set or found are ⅝ iron rebar with yellow caps marked “CT Consultants, Inc.”

Issued in Belleville, Michigan, December 8, 2000.
Irene Porter,
Manager, Detroit Airports District Office, Great Lakes Region

[FR Doc. 01-712 Filed 1-12-01; 8:45 am]

BILLING CODE 4910-13-M